DEPARTMENT OF EDUCATION

[Docket No.: ED-2018-ICCD-0050]

Public Comment Request; Historically Black College and University (HBCU) Capital Financing Program Deferment Request

AGENCY: Office of Postsecondary Education (OPE), Department of Education (ED).

ACTION: Notice.

SUMMARY: ED is requesting public comment on a proposed instrument.

DATES: Interested persons are invited to submit comments on or before May 9, 2018.

ADDRESSES: To access and review the document related to the information collection listed in this notice, please use http://www.regulations.gov by searching the Docket ID number ED-2018-ICCD-0050. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, Room 216-44, Washington, DC 20202-4537.

FOR FURTHER INFORMATION CONTACT: For specific questions, please contact Donald Watson, Executive Director, Historically Black College and University (HBCU) Capital Financing Program, U.S. Department of Education, 400 Maryland Avenue SW, Room 278-02, Washington, DC 20202; telephone: (202) 453-6166; email: donald.watson@ed.gov.

SUPPLEMENTARY INFORMATION: The Department of Education is seeking feedback from the public on a proposed Deferment Request for the HBCU Capital Financing Program. The Department of Education is especially interested in public comment addressing how the Department might enhance the quality, utility, and clarity of the information to be collected. This collection of information does not require OMB review and approval because the proposed instrument will not collect data from ten or more entities. Please note that written comments received in response to this notice will be considered public records.

Abstract: The Consolidated Appropriations Act, 2018 provided $10,000,000 to be used for the deferment of loans made to private Historically Black Colleges and Universities under part D of title III of the Higher Education Act of 1965, as amended. The proposed information collection will be used to determine each applicant's eligibility for deferment, obtain required documentation and assurances to support the deferment request, and prioritize among applicants if requests exceed appropriations.

Dated: April 25, 2018.
Tomakie Washington,
Acting Director, Information Collection Clearance Division, Office of the Chief Privacy Officer, Office of Management.

[FR Doc. 2018-09048 Filed 4-27-18; 8:45 am]

BILLING CODE 4000-01-P